DEPARTMENT OF ENERGY

Federal Energy Regulatory Commission

[Docket No. GP01-1-000]

Shell Deepwater Development Inc., et al.; Notice of Petition for Declaratory Order

October 19, 2000.

Take notice that on October 16, 2000, in Docket No. GP01-1-000, Shell Deepwater Development Inc., Shell Deepwater Production Inc., and Shell Offshore Inc. (collectively: Shell Producers) filed a petition for a Declaratory Order from the Commission finding that the services rendered through 15 offshore production complexes (see list below) are exempt from the reporting requirements of Order Nos. 639 and 639-A,¹ for the reasons set forth in the petition. The subject petition is on file with the Commission and open to public inspection.

¹ Regulations under the Outer Continental Shelf Lands Act Governing the Movement of Natural Gas on Facilities on the Outer Continental Shelf, Order No. 639, 65 FR 20354 (Apr. 17, 2000), FERC Stats. & Regs. 31,514 (2000), 91 FERC 61,019 (2000), order on reh'g, Order No. 639-A, 92 FERC 61,077 (2000).

1. The West Delta 143 Production Complex

2. The Bullwinkle Production Complex

3. The Boxer Production Complex

4. The Enchilada (Garden Banks 128) Production Complex

5. The South Timbalier 300 Production Complex

6. The Bud Production Complex

7. The Ram-Powell Production Complex

8. The Spirit Production Complex

9. The Eugene Island 331 Production Complex

10. The Mississippi Canyon 311 Production Complex

11. The Eugene Island 158 Production Complex

12. The High Island 154 Production Complex

13. The High Island 179 Production Complex

14. The Brazos A-19 Production Complex

15. The Main Pass 290 Production Complex

The Shell Producers contend that each of the above-referenced production complexes should qualify under Order No. 639's feeder-line exemption, and that certain of these facilities should qualify under either the single-shipper or shipper-owner exemption in Order No. 639. The Shell Producers also contend that Order No. 639's single-shipper and shipper-owner exemptions require clarification, and request that the Commission find that producer participation in the Minerals Management Service's royalty-in-kind (RIK) program will not cause otherwise applicable Order No. 639 exemptions to terminate.

Any person desiring to be heard or to protest said filing should file a motion to intervene or a protest with the Federal Energy Regulatory Commission, 888 First Street, NE., Washington, DC 20426, in accordance with sections 385.214 or 385.211 of the Commission's Rules and Regulations. All such motions or protests must be filed on or before November 15, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Beginning November 1, 2000, comments and protests may be filed electronically via the internet in lieu of paper. See, 18 CFR 385.2001(a)(1)(iii) and the instructions on the Commission's web site at ­http://www.ferc.fed.us/efi/doorbell.htm.

David P. Boergers,
Secretary.

[FR Doc. 00-27338 Filed 10-24-00; 8:45 am]

BILLING CODE 6717-01-M